DEPARTMENT OF AGRICULTURE

Food and Nutrition Service

Agency Information Collection Activities: Proposed Collection; Comment Request—Generic Clearance for FNS Quick Response Surveys (FNS QRS)

AGENCY: Food and Nutrition Service (FNS), USDA.

ACTION: Notice.

SUMMARY: In accordance with the Paperwork Reduction Act of 1995, this notice invites the general public and other public agencies to comment on this proposed information collection. This collection is a revision of a currently approved collection to conduct short, quick-turnaround surveys of State and local agencies providing food, education, and other services in the Supplemental Nutrition Assistance Program, Child Nutrition Programs, and Supplemental Nutrition and Safety Programs administered at the federal level by the Food and Nutrition Service (FNS). These programs include the Supplemental Nutrition Assistance Program (SNAP), Special Supplemental Nutrition Program for Women, Infants, and Children (WIC); National School Lunch Program (NSLP); School Breakfast Program (SBP); Special Milk Program (SMP); Fresh Fruit and Vegetable Program (FFVP); Summer Food Service Program (SFSP); Summer EBT (SEBT); Team Nutrition; the Patrick Leahy Farm to School Program; the Child and Adult Care Food Program (CACFP); USDA Foods in Schools; Food Distribution Program on Indian Reservations (FDPIR); The Emergency Food Assistance Program (TEFAP); and the Commodity Supplemental Food Program (CSFP).

DATES: Written comments must be received on or before December 26, 2023.

ADDRESSES: Comments may be submitted via email to conor.mcgovern@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Conor McGovern at conor.mcgovern@usda.gov, 703-457-7740.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Generic Clearance for FNS Quick Response Surveys (FNS QRS).

Form Number: N/A.

OMB Number: 0584-0613.

Expiration Date: 05/31/2024.

Type of Request: Revision of a currently approved collection.

Abstract: The Food and Nutrition Service (FNS) intends to request the renewal of a generic clearance that allows FNS to conduct short, quick-turnaround surveys of State, local, and Tribal agencies and businesses that receive food, funds, and nutrition information through programs administered by FNS. This generic clearance enables FNS to better meet the goals of Executive Order 14058, Transforming Federal Customer Experience and Service Delivery to Rebuild Trust in Government, by allowing FNS to expeditiously gather information from program operators to improve and refine customer experience and service delivery.

These programs include the Supplemental Nutrition Assistance Program (SNAP), Special Supplemental Nutrition Program for Women, Infants, and Children (WIC); National School Lunch Program (NSLP); School Breakfast Program (SBP); Special Milk Program (SMP); Fresh Fruit and Vegetable Program (FFVP); Summer Food Service Program (SFSP); Summer Electronic Benefit Transfer (SEBT); the Patrick Leahy Farm to School Program; Team Nutrition; the Child and Adult Care Food Program (CACFP); USDA Foods in Schools; Food Distribution Program on Indian Reservations (FDPIR); The Emergency Food Assistance Program (TEFAP); and the Commodity Supplemental Food Program (CSFP).

Legislation authorizing these programs requires operators to cooperate with USDA program research and evaluation activities. Traditionally, FNS conducts large, program-specific studies to collect information on numerous features of each program. Such studies often take several years to complete. Quick response surveys provide a system for rapidly collecting current information on a specific feature or issue, and, therefore, enable FNS to administer the programs more effectively.

The data collection activities under this clearance will include: (1) sample frame data collections and (2) quick-response surveys. The sample frame data collections are used to request contact information from State agencies for the local program operators within their purview. The quick-response survey data collections will be used to survey key administrators of FNS programs at the State, local, and site level to answer policy and implementation questions.

Following standard OMB requirements, FNS will submit a change request to OMB for each data collection activity undertaken under this generic clearance. The respondents will be identified at the time that each change request is submitted to OMB. FNS will provide OMB with the instruments and supporting materials describing the research project and specific pre-testing activities.

This revision makes some changes to the information collection as previously approved. SNAP, Summer EBT, and the Patrick Leahy Farm to School Program have been added as separate programs, thereby expanding it to all current FNS programs. The type of information to be collected and the methods of collection will remain broadly the same. In this revision, FNS has changed the manner in which we account for burden on respondents. Previously, we requested burden for exactly one survey per program per year at the state and local levels. This had several downsides. First, it overestimated the burden of the clearance itself on many respondent groups, as some programs are surveyed more commonly than others. Second, it reduced flexibility for FNS to perform multiple surveys for a given program when there were significant policy or operational needs. In making these revisions, we still take steps to ensure that a given individual respondent receives no more than three surveys about the same program each year, with an average of one per program per year expected.

Affected Public: State, Local and Tribal Governments and Businesses. State, Local and Tribal government respondents will include: (1) State Program Directors, including SNAP State agency directors, WIC State Agency directors and nutrition education and breastfeeding coordinators, directors of the Child Nutrition programs (NSLP, SBP, FFVP, SFSP, SEBT, Farm to School, CACFP), directors of State Distributing Agencies (CSFP, TEFAP, USDA Foods in Schools), and FDPIR State Agencies and Indian Tribal Organizations; and (2) local-level program administrators, including Local WIC Agencies and Sites, School Food Authorities (SFAs), Schools, SFSP Sponsors and Sites, USDA Foods in Schools Local Agencies and Providers, TEFAP Eligible Recipient Agencies (ERAs) and Emergency Food Organizations (EFOs), CSFP Local Agencies, etc. Business respondents include not-for-profit local WIC Sites, not-for-profit SFSP Sponsors and Sites, for-profit and not-for-profit CACFP Sponsors and Providers, not-for-profit TEFAP ERAs and EFOs, not-for-profit CSFP Local Agencies, etc.

Estimated Number of Respondents: The total estimated number of annual respondents is 41,346. This includes all State Program Directors (675 total) and a sample of local-level program administrators from local government agencies (20,391 total) and businesses (20,280 total). The total number of respondents includes an estimated 34,213 total responsive entities as well as 7,133 local program administrators from both local agencies (3,479 total) and (3,654 total) whom FNS expects will not respond to the information collection request.

Estimated Number of Responses per Respondent: Approximately once each year, State agencies responsible for a program will be asked to update contact information for their respective local agencies as part of the sample frame data collection. Any single individual respondent, State agency or local program operator, will receive no more than three surveys about the same FNS program in a given year, with each expected to receive a single survey in a given year. Including recruitment requests for the surveys, FNS estimates that respondents will average 2 responses per year.

Estimated Total Annual Responses: 82,692.

Estimated Time per Response: The estimated time of response ranges from 3 minutes (0.05 hours) to 1 hour for respondents and 1 minute (.02 hours) for non-respondents, depending on the data collection activity, as shown in the table below. The average estimated time across all responses is approximately 14 minutes (0.24 hours).

Estimated Total Annual Burden on Respondents: The estimated total annual burden is 19,744 hours, for a total of 59,231 over the clearance period. See the table below for estimated total annual burden for each type of collection and respondent.

Tameka Owens,
Assistant Administrator, Food and Nutrition Service.

BILLING CODE 3410-30-P

[FR Doc. 2023-23660 Filed 10-25-23; 8:45 am]

BILLING CODE 3410-30-C